ENVIRONMENTAL PROTECTION AGENCY

40 CFR Part 52

[MD 080-3037; FRL-6716-9]

Approval and Promulgation of Air Quality Implementation Plans; Maryland; Withdrawal of Proposed Rule

AGENCY: Environmental Protection Agency (EPA).

ACTION: Withdrawal of notice of proposed rulemaking.

SUMMARY: On January 26, 1999 (64 FR 3906), EPA proposed to approve the State of Maryland's regulations for Nitrogen Oxides (NOX) Budget Program (commonly referred to as the NOX Budget Rule) as a revision to the State Implementation Plan (SIP). Prior to our taking any final rulemaking, Maryland informed us that it was revising the rule. On November 18, 1999, Maryland submitted a new SIP revision request to EPA which consists of the revised version of its NOX Budget Rule. Because the State of Maryland has now submitted the revised version of its NOX Budget Rule as a SIP revision, we are withdrawing our January 26, 1999 proposed rule on the old version. EPA will initiate a new and separate rulemaking on the Maryland's November 18, 1999 SIP revision submittal.

DATES: This proposed rule is withdrawn as of June 16, 2000.

FOR FURTHER INFORMATION CONTACT: Cristina Fernandez (215) 814-2178, or by e-mail at fernandez.cristina@epa.gov.

SUPPLEMENTARY INFORMATION:

List of Subjects in 40 CFR Part 52

Environmental protection, Air pollution control, Ozone, Reporting and recordkeeping requirements.

Dated: June 2, 2000.
Bradley M. Campbell,
Regional Administrator, Region III.

[FR Doc. 00-15156 Filed 6-15-00; 8:45 am]

BILLING CODE 6560-50-P